DEPARTMENT OF TRANSPORTATION

Pipeline and Hazardous Materials Safety Administration

Office of Hazardous Materials Safety; Notice of Application For Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 22, 2014.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(1)); 49 CFR 1.53(b)).

Issued in Washington, DC, on November 13, 2014.
Donald Burger,
Chief, General Approvals and Permits.

Application No. | Docket No. | Applicant | Regulation(s) affected | Nature of special permits thereof
New Special Permits
16267-N |  | Korean Air Los Angeles, CA | 49 CFR 172.101 Column (9B), 172.204(c)(3), 173.27, and 175.30(a)(1) | To authorize the one-time transportation in commerce of certain explosives that are forbidden for transportation by cargo only aircraft. (mode 4).
16275-N |  | ThyssenKrupp Bilstein of America, Inc. Hamilton, OH | 49 CFR 173.306(f)(2) | To authorize the transportation in commerce of accumulators meeting the requirements of § 173.306(f)(2) except that the charge pressure may exceed 200 psig but may not exceed 320 psig. (modes 1,2).
16288-N |  | CE Kellogg Co. Inc. Vancouver, WA | 49 CFR 107.503(b), 107.503(c), 173.241, 173.242, 173.243 | To authorize the manufacture, mark, sale and use of a non-DOT specification glass fiber reinforced plastic (GFRP) cargo tank similar to a DOT Specification 407/412. (mode 1).
16291-N |  | Procter & Gamble Distributing LLC Cincinnati, OH | 49 CFR 172.301(c), 173.306 (a)(3)(ii) | To authorize the transportation in commerce of certain aerosol containers not fully conforming to specification DOT 2P. (mode 1).
16292-N |  | Standard Technologies, LLC Fremont, OH | 49 CFR 177.834(h), 178.700(c)(1) | To authorize the manufacture, mark, sale, and use of certain non-UN standard IBCs containing certain Class 3 liquids which may be discharged without removal from the motor vehicle. (mode 1).
16295-N |  | CYTEC INDUSTRIES INC. Woodland Park, NJ | 49 CFR 172.519(c) | To authorize the transportation in commerce of certain IBCs containing combustible liquids with a placard meeting the label specifications for size in § 172.407(c). (modes 1,3).
16302-N |  | Ametek Inc. Pittsburgh, PA | 49 CFR 171.1, 172.101 Columns (9A) and (9B), 173.303, 173.304 | To authorize the transportation in commerce of gases contained in glass ampules as not subject to the Hazardous Materials Regulations. (modes 1, 2, 3, 4, 5).
16304-N |  | GG Global Enterprizes LLC Phoenix, AZ | 49 CFR 173.196(a) | To authorize the manufacture, mark, sale, and use of alternative packaging for Ebola contaminated waste. (mode 1).
16307-N |  | Croman Corporation White City, OR | 49 CFR 172.101 Columns (8C) and (9B), 173.242, 175.310 | To authorize the transportation in commerce of certain flammable liquids in alternative packaging having a capacity of 119 gallons or more by cargo air. (mode 4).
16308-N |  | GeNO LLC Cocoa, FL | 49 CFR 173.175 | To authorize the transportation in commerce of permeation devices that are used in medical devices in lieu of use for calibrating air quality monitoring devices. (modes 1, 2, 3, 4, 5).

[FR Doc. 2014-27426 Filed 11-20-14; 8:45 am]

BILLING CODE 4909-60-M